DEPARTMENT OF THE INTERIOR

National Park Service

[N6932; NPS-WASO-NAGPRA-NPS0042038; PPWOCRADN0-PCU00RP14.R50000]

Notice of Inventory Completion: Missouri Historical Society, St. Louis, MO

AGENCY: National Park Service, Interior.

ACTION: Notice.

SUMMARY: In accordance with the Native American Graves Protection and Repatriation Act (NAGPRA), the Missouri Historical Society (MHS) has completed an inventory of human remains and associated funerary objects and has determined that there is a cultural affiliation between the human remains and associated funerary objects and Indian Tribes or Native Hawaiian organizations in this notice.

DATES: Repatriation of the human remains and associated funerary objects in this notice may occur on or after March 25, 2026.

ADDRESSES: Send written requests for repatriation of the human remains and associated funerary objects in this notice to Brady Wolf, Missouri Historical Society, 225 S Skinker Blvd., St. Louis, MO 63105, email bwolf@mohistory.org.

SUPPLEMENTARY INFORMATION: This notice is published as part of the National Park Service's administrative responsibilities under NAGPRA. The determinations in this notice are the sole responsibility of the MHS, and additional information on the determinations in this notice, including the results of consultation, can be found in its inventory or related records. The National Park Service is not responsible for the determinations in this notice.

Abstract of Information Available

Human remains representing at least two individuals from Sacramento County, CA, have been identified. The 34 associated funerary objects are: six lots of baked clay, four bird bone whistles or “sucking tubes”, two worked bird bones, three lots of strung shell beads, three bone awls, two ceramic ear plugs, two baked clay bird effigies, three baked clay spools, two stone projectile points, one obsidian projectile point, one stone ball, one baked clay net sinker, one shell pendant, one stone spindle whorl, one lot of milk glass beads, and one large drilled abalone shell.

At an unknown time prior to 1958, an unknown person or persons disinterred two Ancestors and 33 associated funerary objects from multiple burial sites in Sacramento County, CA including but not limited to: CA-SAC-006, CA-SAC-085, CA-SAC-88,89, or 90, CA-SAC-113, Cliff Mound, and Vernon Mound. At an unknown time, these Ancestors and associated funerary objects were transferred to Dr. Max Goldstein of St. Louis, MO where they were stored and possibly displayed at his private museum within the Central Institute for the Deaf. Following the death of Dr. Goldstein, his estate transferred control of the Ancestors and associated funerary objects to the Missouri Historical Society in 1958.

At an unknown time prior to 1993, an unknown person or persons removed one carved stone spindle whorl from CA-SAC-006 and transferred to the Missouri Historical Society. The whorl was catalogued during a 1993 internal inventory.

Cultural Affiliation

Based on the information available and the results of consultation, cultural affiliation is reasonably identified by the geographical location or acquisition history of the human remains and associated funerary objects described in this notice.

Determinations

The MHS has determined that:

• The human remains described in this notice represent the physical remains of two individuals of Native American ancestry.

• The 34 objects described in this notice are reasonably believed to have been placed intentionally with or near individual human remains at the time of death or later as part of the death rite or ceremony.

• There is a connection between the human remains and associated funerary objects described in this notice and the Buena Vista Rancheria of Me-Wuk Indians of California; California Valley Miwok Tribe, California; Ione Band of Miwok Indians of California; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 25, 2026. If competing requests for repatriation are received, the MHS must determine the most appropriate requestor prior to repatriation. Requests for joint repatriation of the human remains and associated funerary objects are considered a single request and not competing requests. The MHS is responsible for sending a copy of this notice to the Indian Tribes and Native Hawaiian organizations identified in this notice and any other consulting parties.

Authority: Native American Graves Protection and Repatriation Act, 25 U.S.C. 3003, and the implementing regulations, 43 CFR 10.10.

Dated: February 13, 2026.
Melanie O'Brien,
Manager, National NAGPRA Program.

[FR Doc. 2026-03556 Filed 2-20-26; 8:45 am]

BILLING CODE 4312-52-P